DEPARTMENT OF ENERGY

Agency Information Collection Extension Under Review by the Office of Management and Budget

AGENCY: Department of Energy.

ACTION: Submission for OMB review; comment request.

SUMMARY: The Department of Energy (DOE) intends to extend an information collection package for a period of three years, pursuant to Section 3507(h)(1) with the Office of Management and Budget (OMB) under the Paperwork Reduction Act of 1995. The Industrial Relations collection package, OMB Control Number 1910-0600, collects information from DOE's Facilities Management Contractors (formerly known as Management and Operating [M&O] Contractors, and Management and Operating Type [M&O Type] Contractors) concerning the management and administration of their workforce. This information is used to exercise management oversight and cost control of our contracts and the application of statutory and contractual requirements. The collection of this data is critical to the Department. It is used to ensure that the contractors satisfy their contractual obligations; contract funds are expended as intended; and to detect and eliminate fraud, waste, and abuse. The data collected involves contractor equal employment opportunity and affirmative action program information.

DATES: Written comments and recommendations regarding this information collection package must be submitted to the OMB Desk Officer on or before December 10, 2001. If you wish to submit comments, but find it difficult to do so within the time period allowed, please notify the OMB Desk Officer of your intent as soon as possible. The Desk Officer may be reached at 202/395-3087. In addition, please notify the DOE contact listed below.

ADDRESSES: Address comments to the Office of Information and Regulatory Affairs, Office of Management and Budget (OMB), DOE Desk Officer, New Executive Office Building, 725 17th St., Washington, DC 20503. Persons submitting comments to OMB are requested to send a copy to Ms. Susan L. Frey, U. S. Department of Energy, Director, Records Management Division, Office of the Chief Information Officer (SO-312), Germantown, MD 20874-1290. Ms. Frey can be contacted by telephone (301/903-3666) or email (Susan.Frey@hq.doe.gov). 1000 Independence Avenue, SW., Washington, DC 20585.

FOR FURTHER INFORMATION CONTACT: Requests for copies of the Department's Paperwork Reduction Act Submission and other information please contact Susan L. Frey, at the above-mentioned address.

SUPPLEMENTARY INFORMATION: (1) Title of the information collection package: Industrial Relations; (2) Current OMB control number: 1910-0600; (3) Type of respondents: DOE Management and Operating Contractors (M&O) and Management and Operating type (M&O Type) Contractors; (4) Estimated number of respondents: 718; (5) Estimated number of Burden Hours: 10,138; (6) Number of categories of information or record keeping requirements: 19; and (7) Purpose: This information is required for management oversight of DOE M&O and M&O-Type Contracts/Contractors and to ensure that the programmatic and administrative management requirements of the contract are managed efficiently and effectively.

Statutory Authority: Section 3506(c)(2)(A) and Section 3507(h)(1) of the Paperwork Reduction Act of 1995 (Pub. L. No. 104-13).

Issued in Washington, DC, on November 1, 2001.
Susan L. Frey,
Director, Records Management Division, Office of Records and Business Management, Office of the Chief Information Officer.

[FR Doc. 01-28151 Filed 11-8-01; 8:45 am]

BILLING CODE 6450-01-P